DEPARTMENT OF ENERGY

Federal Energy Regulatory Commission

[Docket No. CP11-64-000]

Trunkline Gas Company, LLC; Notice of Request Under Blanket Authorization

February 2, 2010.

Take notice that on January 20, 2011, Trunkline Gas Company, LLC (Trunkline), P.O. Box 4967, Houston, Texas 77210-4967, filed a prior notice of blanket certificate pursuant to Sections 157.205(b) and 157.216(c) of the Federal Energy Regulatory Commission's Regulations under the Natural Gas Act, for authorization to abandon, by removal, its Ship Shoal T-27 Platform and appurtenant facilities located in Ship Shoal 274, Offshore Louisiana. Specifically, the T-27 Platform and all risers out of service, will be abandoned, salvaged and disposed of, all as more fully set forth in the application, which is open to the public for inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this application may be directed to Stephen T. Veatch, Senior Director of Certificates and Tariffs, Trunkline Gas Company, LLC, 5444 Westheimer Road, Houston, Texas 77056, or call (713) 989-2024, or fax (713) 989-1176, or by e-mail Stephen.Veatch@sug.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2011-2807 Filed 2-8-11; 8:45 am]

BILLING CODE 6717-01-P